DEPARTMENT OF STATE

[Public Notice 5439]

60-Day Notice of Proposed Information Collection: DS-2029, Application for Consular Report of Birth of a Citizen of the United States of America, OMB Control No.1405-0011

ACTION: Notice of request for public comments.

SUMMARY: The Department of State is seeking Office of Management and Budget (OMB) approval for the information collection described below. The purpose of this notice is to allow 60 days for public comment in the Federal Register preceding submission to OMB. We are conducting this process in accordance with the Paperwork Reduction Act of 1995.

Title of Information Collection: Application for Consular Report of Birth Abroad of a Citizen of the United States of America.

OMB Control Number: 1405-0011.

Type of Request: Extension of a currently approved collection.

Originating Office: Consular Affairs, Office of Overseas Citizen Services (CA/OCS).

Form Number: DS-2029.

Respondents: Parents or legal guardians of United States citizen children born overseas.

Estimated Number of Respondents: 52,000 per year.

Estimated Number of Responses: 52,000.

Average Hours per Response: 20 minutes.

Total Estimated Burden: 17,333.

Frequency: On occasion.

Obligation to Respond: Voluntary.

DATES: The Department will accept comments from the public up to 60 days from June 12, 2006.

ADDRESSES: You may submit comments by any of the following methods:

E-mail: GawMA@state.gov.

Mail (paper, disk, or CD-ROM submissions): Department of State, Bureau of Consular Affairs, Office of Overseas Citizens Services, SA-29 4th Floor, 2100 Pennsylvania Avenue, NW., Washington, DC 20037. Fax: 202-736-9111.

Hand Delivery or Courier: see above.

You must include the DS form number (if applicable), information collection title, and OMB control number in any correspondence.

FOR FURTHER INFORMATION CONTACT: Direct requests for additional information regarding the collection listed in this notice, including requests for copies of the proposed information collection and supporting documents, to Monica Gaw, Department of State, Bureau of Consular Affairs, Office of Overseas Citizens Services, SA-29 4th Floor, 2100 Pennsylvania Avenue, NW., Washington, DC 20037, who may be reached on 202-736-9107, and GawMA@state.gov.

SUPPLEMENTARY INFORMATION: We are soliciting public comments to permit the Department to:

• Evaluate whether the proposed information collection is necessary for the proper performance of our functions.

• Evaluate the accuracy of our estimate of the burden of the proposed collection, including the validity of the methodology and assumptions used.

• Enhance the quality, utility, and clarity of the information to be collected.

• Minimize the reporting burden on those who are to respond, including the use of automated collection techniques or other forms of technology.

Abstract of Proposed Collection

The DS-2029, Application for Consular Report of Birth Abroad of a Citizen of the United States of America, is used by citizens of the United States to report the birth of a child while overseas. The information collected on this form will be used to certify the acquisition of U.S. citizenship at birth of a person born abroad and can be used by that child throughout life.

Methodology

The DS-2029 will be available to download from the Internet. An application for a Consular Report of Birth is normally made in the consular district in which the birth occurred. The parent respondents will fill the form out and take it to a United States Consulate or Embassy, who will examine the documentation and enter the information provided into the Department of State American Citizen Services (ACS) electronic database.

Dated: May 24, 2006.
Wanda L. Nesbitt,
Acting Assistant Secretary, Bureau of Consular Affairs, Department of State.

[FR Doc. E6-9134 Filed 6-9-06; 8:45 am]

BILLING CODE 4710-06-P